DEPARTMENT OF THE INTERIOR

Bureau of Land Management

[AK-910-1410-PG]

AGENCY: Bureau of Land Management, Interior.

ACTION: Notice of Alaska Resource Advisory Council meeting.

SUMMARY: The Alaska Resource Advisory Council will conduct an open meeting Thursday, February 24, 2000, from 10 a.m. until 4:30 p.m. and Friday, February 25, 2000, from 9 a.m. until 3 p.m. The council will review BLM land management issues and take public comment on those issues. The meeting will be held at the Campbell Creek Science Center, located at 68th Avenue and Abbott Loop Road in Anchorage.

Public comment will be taken from 1-2 p.m. Thursday, February 24. Written comments may be submitted at the meeting or mailed to the address below prior to the meeting.

ADDRESSES: Inquiries about the meeting should be sent to External Affairs, Bureau of Land Management, 222 W. 7th Avenue, #13, Anchorage, AK 99513-7599.

FOR FURTHER INFORMATION CONTACT: Teresa McPherson, (907) 271-5555.

Dated: January 5, 2000.
Francis R. Cherry, Jr.,
State Director.

[FR Doc. 00-2204 Filed 2-1-00; 8:45 am]

BILLING CODE 4310-JA-M